SECURITIES AND EXCHANGE COMMISSION

[File No. 500-1]

In the Matter of Balaton Power, Inc. and Flying Eagle PU Technical Corp. (f/k/a Sooner Holdings, Inc.); Order of Suspension of Trading

August 19, 2014.

It appears to the Securities and Exchange Commission that there is a lack of current and accurate information concerning the securities of Balaton Power, Inc. because it has not filed any periodic reports since the period ended December 31, 2011.

It appears to the Securities and Exchange Commission that there is a lack of current and accurate information concerning the securities of Flying Eagle PU Technical Corp. (f/k/a Sooner Holdings, Inc.) because it has not filed any periodic reports since the period ended December 31, 2011.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on August 19, 2014, through 11:59 p.m. EDT on September 2, 2014.

By the Commission.
Jill M. Peterson,
Assistant Secretary.

[FR Doc. 2014-19965 Filed 8-19-14; 4:15 pm]

BILLING CODE 8011-01-P